DEPARTMENT OF TRANSPORTATION

Federal Aviation Administration

14 CFR Part 39

[Docket No. 2003-NE-10-AD]

RIN 2120-AA64

Airworthiness Directives; Rolls-Royce Deutschland Ltd & Co KG Dart 528, 529, 529D, 531, 532, 535, 542, and 552 Series Turboprop Engines

AGENCY: Federal Aviation Administration (FAA), DOT.

ACTION: Notice of proposed rulemaking (NPRM).

SUMMARY: The FAA proposes to adopt a new airworthiness directive (AD) for Rolls-Royce Deutschland Ltd & Co KG (RRD) (formerly Rolls-Royce plc) Dart 528-7E, 529-7H, -7E, -8E, -8H, -8X, -8Y, -8Z, 529D-7E, -7H, -8E, -8H, -8X, -8Y, -8Z, 531, 532-2L, -7, -7N, -7P, -7L, -7R, 535-2, -7R, 542-4, -4K, -10, -10J, -10K, 552-2, 552-7, and -7R turboprop engines. This proposed AD would require removal of any Sermetel coating (Omat 7/46) from certain high pressure (HP) turbine discs and intermediate pressure (IP) turbine discs, and inspection of discs after coating removal. This proposed AD is prompted by reports of Sermetel coating (Omat 7/46) applied to certain turbine discs which, if allowed to remain on the discs would react adversely with the disc dry film lubricant, and could result in uncontained HP or IP turbine disc failure, resulting in possible damage to the airplane. The actions specified in this proposed AD are intended to prevent uncontained HP or IP turbine disc failure, which could result in damage to the airplane.

DATES: We must receive any comments on this proposed AD by July 7, 2003.

ADDRESSES: Use one of the following addresses to submit comments on this proposed AD:

• By mail: Federal Aviation Administration (FAA), New England Region, Office of the Regional Counsel, Attention: Rules Docket No. 2003-NE-10-AD, 12 New England Executive Park, Burlington, MA 01803-5299.

• By fax: (781) 238-7055.

• By e-mail: 9-ane-adcomment@faa.gov.

You may examine the AD docket at the FAA, New England Region, Office of the Regional Counsel, 12 New England Executive Park, Burlington, MA.

FOR FURTHER INFORMATION CONTACT: James Lawrence, Aerospace Engineer, Engine Certification Office, FAA, Engine and Propeller Directorate, 12 New England Executive Park, Burlington, MA 01803-5299; telephone (781) 238-7176; fax (781) 238-7199.

SUPPLEMENTARY INFORMATION:

Comments Invited

We invite you to submit any written relevant data, views, or arguments regarding this proposal. Send your comments to an address listed under ADDRESSES. Include “AD Docket No. 2003-NE-10-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us through a nonwritten communication, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You may get more information about plain language at http://www.plainlanguage.gov.

Examining the AD Docket

You may examine the AD Docket (including any comments and service information), by appointment, between 8 a.m. and 4:30 p.m., Monday through Friday, except Federal holidays. See ADDRESSES for the location.

Discussion

The Luftfahrt-Bundesamt (LBA), which is the airworthiness authority for Germany, recently notified the FAA that an unsafe condition may exist on RRD Dart 528-7E, 529-7H, -7E, -8E, -8H, -8X, -8Y, -8Z, 529D-7E, -7H, -8E, -8H, -8X, -8Y, -8Z, 531, 532-2L, -7, -7N, -7P, -7L, -7R, 535-2, -7R, 542 -4, -4K, -10, -10J, -10K, 552-2, 552-7, and -7R turboprop engines. The LBA advises that some HP and IP turbine discs have had Sermetel coating (Omat 7/46) applied, in accordance with a local repair scheme, and also have dry film lubricant applied. This coating, when combined with the application of dry film lubricant, may have a detrimental effect on the discs leading to uncontained HP or IP turbine disc failure, which could result in damage to the airplane.

The dry film lubricant is graphite-based and in a typical corrosive environment, acts as an electrolyte when combined with Sermetel coating. This results in an accelerated form of corrosion pitting which could lead to initiation of cracks.

Relevant Service Information

RRD has issued Mandatory Service Bulletin No. Da72-540, dated December 23, 2002. This MSB describes procedures for determining if certain HP and IP turbine discs have Sermetel coating (Omat 7/46) combined with the application of a dry film lubricant and describes procedures for removing the coating and fully inspecting the discs once the coating is removed. The LBA classified this MSB as mandatory and issued airworthiness directive LTA 2003-015, dated February 6, 2003, in order to ensure the airworthiness of these RRD engines in Germany.

FAA's Determination and Requirements of the Proposed AD

These RRD Dart 528-7E, 529-7H, -7E, -8E, -8H, -8X, -8Y, -8Z, 529D-7E, -7H, -8E, -8H, -8X, -8Y, -8Z, 531, 532-2L, -7, -7N, -7P, -7L, -7R, 535-2, -7R, 542-4, -4K, -10, -10J, -10K, 552-2, 552-7, and -7R turboprop engines, manufactured in Germany, are type-certificated for operation in the United States under the provisions of section 21.29 of the Federal Aviation Regulations (14 CFR 21.29) and the applicable bilateral airworthiness agreement. Pursuant to this bilateral airworthiness agreement, the LBA has kept us informed of the situation described above. We have examined the LBA's findings, reviewed all available information, and determined that AD action is necessary for products of this type design that are certificated for operation in the United States. Therefore, we are proposing this AD, which would require removal of any Sermetel coating (Omat 7/46) from certain HP turbine discs (except for engines with RRD Service Bulletin No. Da72-533, Revision 3, dated October 2001, incorporated) and IP turbine discs, and full inspection of discs after coating removal.

Changes to 14 CFR Part 39—Effect on the Proposed AD

On July 10, 2002, we published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

There are approximately 1,400 RRD Dart 528-7E, 529-7H, -7E, -8E, -8H, -8X, -8Y, -8Z, 529D-7E, -7H, -8E, -8H, -8X, -8Y, -8Z, 531, 532-2L, -7, -7N, -7P, -7L, -7R, 535-2, -7R, 542-4, -4K, -10, -10J, -10K, 552-2, 552-7, and -7R turboprop engines of the affected design in the worldwide fleet. We estimate that 130 engines installed on airplanes of U.S. registry would be affected by this proposed AD. We also estimate that it would take approximately 12 work hours per engine to perform the proposed actions, and that the average labor rate is $60 per work hour. Required parts are not anticipated. Based on these figures, the total cost of the proposed AD to U.S. operators is estimated to be $93,600.

Regulatory Findings

We have determined that this proposed AD would not have federalism implications under Executive Order 13132. This proposed AD would not have a substantial direct effect on the States, on the relationship between the national government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2003-NE-10-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Rolls-Royce Deutschland Ltd & Co KG: Docket No. 2003-NE-10-AD.

Comments Due Date

(a) The FAA must receive comments on this airworthiness directive (AD) action by July 7, 2003.

Affected ADs

(b) None.

Applicability

(c) This AD is applicable to Rolls-Royce Deutschland Ltd & Co KG (RRD) (formerly Rolls-Royce plc) Dart 528-7E, 529-7H, -7E, -8E, -8H, -8X, -8Y, -8Z, 529D-7E, -7H, -8E, -8H, -8X, -8Y, -8Z, 531, 532-2L, -7, -7N, -7P, -7L, -7R, 535-2, -7R, 542-4, -4K, -10, -10J, -10K, 552-2, 552-7, and -7R turboprop engines with an HP turbine disc or IP turbine disc that has an SN listed in Table 1 of this AD installed. These engines are installed on, but not limited to, BAE Systems (Operations) Limited, Model HS 748 Series 2A and 2B airplanes, Fokker Aircraft B.V., F.27 Friendship Mark 200, 400, 500, and 600 airplanes, Gulfstream Aerospace Corporation Model G-159 “Gulfstream I” airplanes, Maryland Air Industries, Inc. F-7F, F-27A, F-27G, F-27J, F-27M, FH-227B, FH-227C, FH-227 D, and FH-227 E airplanes, and Mitsubishi Heavy Industries, Ltd Model YS-11, YS-11A-200, YS-11A-300, YS-11A-500, and YS-11A-600 airplanes. Table 1 follows:

Table 1.—Affected Turbine Discs
Turbine disc serial No. | Turbine disc stage | Date when coating was applied | Turbine disc cycles-since-new when coating was applied
DETN128 | HP | 31. Mar 01 | 4356
DETN155 | HP | 22. Jun 99 | 0
DETN3541 | HP | 17. Apr 01 | 2850
DETN3542 | HP | 16. Jan 01 | 6053
LA759 | HP | 27. Oct 00 | 5858
LP219 | HP | 23. Nov 99 | 6688
LW376 | HP | 21. Jul 99 | 3302
LX484 | HP | 22. Feb 00 | 4632
LZ299 | HP | 23. Dec 99 | 5839
LZ404 | HP | 13. Jul 01 | 630
LZ555 | HP | 30. Aug 00 | 2158
LZ564 | HP | 15. Mar 01 | 4204
SG612 | HP | 20. Apr 00 | 5735
SH195 | HP | 16. Dec 99 | 5349
DETN25 | IP | 30. Aug 00 | 2158
DETN238 | IP | 31. Mar 01 | 4356
DETN240 | IP | 18. Apr 01 | 0
DETN944 | IP | 04. Mar 00 | 2200
DETN2666 | IP | 17. Apr 01 | 2850
DETN5538 | IP | 16. Jul 01 | 630
DETN6400 | IP | 14. Apr 99 | 0
LA407 | IP | 22. Jun 00 | 5736
LA858 | IP | 27. Oct 00 | 5858
LB99 | IP | 13. Aug 99 | 9093
LE284 | IP | 24. Dec 99 | 5679
LN87 | IP | 10. May 99 | 5829
LP519 | IP | 23. Nov 99 | 6688
LW517 | IP | 22. Dec 99 | 5865
LX214 | IP | 09. Dec 00 | 6498
LX379 | IP | 22. Feb 00 | 4632
LZ248 | IP | 23. Dec 99 | 5839
LZ385 | IP | 17. Oct 01 | 9072
LZ603 | IP | 22. Jun 99 | 0
SG554 | IP | 20. Apr 00 | 5735
SH863 | IP | 16. Dec 99 | 5349

Unsafe Condition

(d) This AD was prompted by reports of Sermetel coating (Omat 7/46) applied to certain turbine discs which, if allowed to remain on the discs would react adversely with the disc dry film lubricant, causing uncontained HP or IP turbine disc failure, which could result in damage to the airplane. The actions specified in this AD are intended to prevent HP or IP turbine disc failure, which could result in damage to the airplane.

Compliance

(e) Compliance with this AD is required as indicated, unless already done.

Determining if Action Is Required

(f) Within 60 days after the effective date of this AD, determine the SN of the HP turbine disc and the IP turbine disc. If none of the HP and IP turbine discs with SN's listed in Table 1 are installed in the engine, no further action is required.

(g) If one or more of the discs with SNs listed in Table 1 of this AD are installed in the engine, do the following:

(1) If the engine has had a full overhaul of the turbine after the shop visit at which the Sermetel coating (Omat 7/46) was applied, no further action is required.

(2) If only the HP turbine disc is listed in Table 1, and the engine has RRD Service Bulletin No. Da72-533, Revision 3, dated October 2001, incorporated, no further action is required.

Removal of Sermetel Coating and Disc Inspection

(3) Before accumulating 10,000 flight cycles since the coating was applied, completely remove Sermetel coating (Omat 7/46) from HP turbine discs and LP turbine discs. Information on coating removal can be found in RRD Overhaul Processes Manual, Overhaul Process 114.

(4) Visually inspect HP turbine discs and LP turbine discs, and return to service discs that pass inspection. Information on disc pass or fail inspection criteria can be found in the RRD Engine Overhaul Manual, Chapter 72-6-1.

Alternative Methods of Compliance

(h) Alternative methods of compliance must be requested in accordance with 14 CFR part 39.19, and must be approved by the Manager, Engine Certification Office.

Material Incorporated by Reference

(i) None.

Related Information

(j) The subject of this AD is addressed in LBA airworthiness directive LTA 2003-015, dated February 6, 2003.

Issued in Burlington, Massachusetts, on April 29, 2003.
Francis A. Favara,
Acting Manager, Engine and Propeller Directorate, Aircraft Certification Service.

[FR Doc. 03-10984 Filed 5-2-03; 8:45 am]

BILLING CODE 4910-13-P